ENVIRONMENTAL PROTECTION AGENCY

40 CFR Part 300

[EPA-HQ-SFUND-1990-0010; FRL-9999-92-Region 4]

National Oil and Hazardous Substances Pollution Contingency Plan; National Priorities List: Partial Deletion of the Townsend Saw Chain Co. Superfund Site

AGENCY: Environmental Protection Agency (EPA).

ACTION: Final rule.

SUMMARY: The Environmental Protection Agency (EPA) Region 4 announces the deletion of the soil, sediment, surface water, surficial aquifer, and the intermediate aquifer of this Site with the exception of a limited area (5000-8000 square feet) of the intermediate aquifer below the 1C clay in the vicinity of monitoring wells IMW-01B, MW-128, and OW-143 of the Townsend Saw Chain Co. Superfund Site (Site) located in Pontiac, South Carolina, from the National Priorities List (NPL). The NPL, promulgated pursuant to section 105 of the Comprehensive Environmental Response, Compensation, and Liability Act (CERCLA) of 1980, as amended, is an appendix of the National Oil and Hazardous Substances Pollution Contingency Plan (NCP). This partial deletion pertains to the soil, sediment, surface water, surficial aquifer, and the intermediate aquifer of this Site. A limited area (5000-8000 square feet) of the intermediate aquifer below the 1C clay in the vicinity of monitoring wells IMW-01B, MW-128, and OW-143 of the Townsend Saw Chain Co. will remain on the NPL and is not being considered for deletion as part of this action. The EPA and the State of South Carolina, through the South Carolina Department of Health and Environmental Control (SC DHEC), have determined that all appropriate response actions under CERCLA, other than operation and maintenance, monitoring and five-year reviews, have been completed. However, this partial deletion does not preclude future actions under Superfund.

DATES: This action is effective September 24, 2019.

ADDRESSES: EPA has established a docket for this action under Docket Identification No. EPA-HQ-SFUND-1990-0010. All documents in the docket are listed on the http://www.regulations.gov website. Although listed in the index, some information is not publicly available, i.e., Confidential Business Information or other information whose disclosure is restricted by statute. Certain other material, such as copyrighted material, is not placed on the internet and will be publicly available only in hard copy form. Publicly available docket materials are available either electronically through http://www.regulations.gov or in hard copy at the site information repositories:

US EPA Region 4, Superfund & Emergency Management Divison Records Center, 61 Forsyth Street SW, Atlanta, Georgia 30303, (800) 435-9234 Hours of operation: Monday-Friday 8 a.m. to 4:30 p.m.

Northeast Regional Library, 7490 Parklane Road, Columbia, South Carolina, Monday-Thursday: 9:00 a.m.-9:00 p.m., and Friday-Saturday: 9:00 a.m.-6:00 p.m., Phone: (803) 736-6575.

FOR FURTHER INFORMATION CONTACT: Joydeb Majumder, Remedial Project Manager, U.S. Environmental Protection Agency, Region 4, 61 Forsyth St. SW, Atlanta, GA 30303. (404) 562-9121, email: Majumder.joydeb@epa.gov.

SUPPLEMENTARY INFORMATION: The portion of the site to be deleted from the NPL is: The soil, sediment, surface water, surficial aquifer, and the intermediate aquifer of this Site with the exception of a limited area (5000-8000 square feet) of the intermediate aquifer below the 1C clay in the vicinity of monitoring wells IMW-01B, MW-128, and OW-143 of the Townsend Saw Chain Co. Superfund Site (Site) located in Pontiac, South Carolina. A Notice of Intent for Partial Deletion for this Site was published in the Federal Register 84 FR 35054, on July 22, 2019.

The closing date for comments on the Notice of Intent for Partial Deletion was August 21, 2019. No public comments were received and EPA will proceed with the partial deletion.

EPA maintains the NPL as the list of sites that appear to present a significant risk to public health, welfare, or the environment. Deletion of a site from the NPL does not preclude further remedial action. Whenever there is a significant release from a site deleted from the NPL, the deleted site may be restored to the NPL without application of the hazard ranking system. Deletion of portions of a site from the NPL does not affect responsible party liability, in the unlikely event that future conditions warrant further actions.

List of Subjects in 40 CFR Part 300

Environmental protection, Air pollution control, Chemicals, Hazardous waste, Hazardous substances, Intergovernmental relations, Penalties, Reporting and recordkeeping requirements, Superfund, Water pollution control, and Water supply.

Dated: September 9, 2019.
Mary S. Walker,
Regional Administrator, Region 4.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. Table 1 of appendix B to part 300 is amended by removing the entry for “SC, Townsend Saw Chain Co, Pontiac” and adding an entry for “SC, Townsend Saw Chain Co. Superfund Site, Pontiac” in its place to read as follows:

Appendix B to Part 300—National Priorities List

Table 1—General Superfund Section
State | Site name | City/county | Notes a
* * * * * * *
SC | Townsend Saw Chain Co. Superfund Site | Pontiac | P.
* * * * * * *
a = Based on issuance of health advisory by Agency for Toxic Substances and Disease Registry (if scored, HRS score need not be greater than or equal to 28.50).
* * * * * * *
P = Sites with partial deletion(s).

* * * * *

[FR Doc. 2019-20346 Filed 9-23-19; 8:45 am]

BILLING CODE 6560-50-P